FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 9, 2016.

A. Federal Reserve Bank of Chicago (Colette A. Fried, Assistant Vice President) 230 South LaSalle Street, Chicago, Illinois 60690-1414:

1. Mike Weis and Valerie Weis, Norwalk, Iowa, individually and as controlling shareholders of Interstate Enterprises, Ltd. a wholly-owned subsidiary of Interstate Telephone Company, Truro, Iowa, and as a group acting in concert with: Paul Cain, Van Meter, Iowa; Kelly Cain, Van Meter, Iowa; David Cain, Van Meter, Iowa; Meghan E. Cain, Van Meter, Iowa; Stephen Cain, Winterset, Iowa; Marvin A. Eivins, Winterset, Iowa; Lillian K. Eivins, Winterset, Iowa; Susan Eivins Brakhane, Winterset, Iowa; James W. Mease, Winterset, Iowa; Sue A. Mease, Winterset, Iowa; Justin J. Mease, Ankeny, Iowa; April S. Schaefer, Cedar Rapids, Iowa; Shane K. Pashek, Winterset, Iowa; Ann Pashek, Winterset, Iowa; Taylor E. Pashek, Winterset, Iowa; S. James Smith, Winterset, Iowa; Linda J. Smith, Earlham, Iowa; Kari L. Brett, Altoona, Iowa; Ellen D. Wade, Beacon, New York; M. Randall Townsend, Winterset, Iowa; Kimberly A. Townsend, Winterset, Iowa; Megan A. Townsend, Winterset, Iowa; David E. Trask, Winterset, Iowa; Judith A. Trask, Winterset, Iowa; and Kristin Elizabeth Weis, Winterset, Iowa; to acquire control voting shares of Farmers and Merchants Bancorp, Winterset, Iowa, and thereby indirectly control Farmers & Merchants State Bank, Winterset, Iowa.

Board of Governors of the Federal Reserve System, November 21, 2016.
Yao-Chin Chao,
Assistant Secretary of the Board.

[FR Doc. 2016-28386 Filed 11-23-16; 8:45 am]

BILLING CODE 6210-01-P